DEPARTMENT OF COMMERCE

National Oceanic and Atmospheric Administration

50 CFR Part 635

[I.D. 052500B]

Atlantic Highly Migratory Species (HMS) Fisheries; Prohibited Shark Species; Large Coastal Shark Species; Commercial Fishery Closure Change

AGENCY: National Marine Fisheries Service (NMFS), National Oceanic and Atmospheric Administration (NOAA), Commerce.

ACTION: Implementation of prohibited species provisions; closure change.

SUMMARY: NMFS implements the 1999 prohibited species provisions and changes the closure of the large coastal shark (LCS) commercial fishery in the Atlantic Ocean, including the Gulf of Mexico and Caribbean Sea. On June 6, 2000, NMFS announced in the Federal Register a closure date of August 7, 2000, for LCS. In a court order by Judge Stephen D. Merryday, the 1999 regulations governing prohibited species provisions may be implemented and enforced, pending further review of the court. Therefore, based on 1997, 1998, and 1999 catch rates and the implementation of the prohibited species provisions, NMFS has determined that the second semiannual adjusted quota for LCS will be reached on or before August 15, 2000.

DATES: This action is effective July 1, 2000. The closure for the commercial LCS fishery is changed to August 15, 2000, at 11:30 p.m., local time, and will be in effect through December 31, 2000.

FOR FURTHER INFORMATION CONTACT: Margo Schulze-Haugen or Karyl Brewster-Geisz, 301-713-2347; fax 301-713-1917.

SUPPLEMENTARY INFORMATION: The Atlantic shark fishery is managed under the Fishery Management Plan for Atlantic Tunas, Swordfish, and Sharks (HMS FMP), and its implementing regulations found at 50 CFR part 635 issued under authority of the Magnuson-Stevens Fishery Conservation and Management Act (16 U.S.C. 1801 et seq.).

On June 30, 1999, NMFS received a Court Order from Judge Steven D. Merryday relative to the May 1997 lawsuit challenging commercial harvest quotas for Atlantic sharks. Specifically, the order states: “* * * the Court hereby preliminarily, and until further order of the Court, expressly ENJOINS the defendant and his designees from enforcing the 1999 regulations, 64 Fed. Reg. 29090 (May, 28, 1999) with respect to Atlantic shark commercial catch quotas and fish-counting methods (including the counting of dead discards and state commercial landings after federal closures) that are different from the quotas and fish counting methods prescribed by the 1997 Atlantic shark regulations, 62 Fed. Reg. 16648 (April 7, 1997).” Therefore, effective July 9, 1999 (July 14, 1999, 64 FR 37883), NMFS reverted the LCS quota to its 1997 level of 1,285 metric tons dressed weight (all species of LCS included), with no minimum size on ridgeback LCS; reverted the pelagic and small coastal shark quotas to their 1997 levels; and applied the 1997 prohibited species list to commercial fisheries (i.e., did not apply the 1999 prohibited species list to commercial fisheries). The limited access provisions, including trip limits for directed and incidental shark permit holders, and all recreational shark provisions (including the 1999 prohibited species provisions) were implemented.

On May 19, 2000, the parties filed a joint motion requesting clarification of the June 30, 1999, order relative to the implementation and enforcement of the prohibited species provisions contained in the final rule (May 28, 1999, 64 FR 29090) of the HMS FMP.

On June 12, 2000, NMFS received a Court Order from Judge Steven D. Merryday relative to the joint motion stating: “Upon consideration, the motion (Doc. 142) is GRANTED. Pending further review, the defendant may proceed with implementation and enforcement of the prohibited species provisions in 64 Fed. Reg. 29090 (May 28, 1999).”

Therefore, effective July 1, 2000, the 1999 prohibited species provisions, including species designations (see Table 1 of Appendix A to 50 CFR part 635 for a list of prohibited species) and prohibitions on possession are effective and will be enforced. Effective July 1, 2000, the following species are prohibited: white, whale, basking, sand tiger, bigeye sand tiger, dusky, bignose, Galapagos, night, Caribbean reef, narrowtooth, Caribbean sharpnose, smalltail, Atlantic angel, longfin mako, bigeye thresher, sevengill, sixgill, bigeye sixgill.

Pursuant to 50 CFR 635.71(d)(10), it is prohibited to retain, possess, sell, or purchase a prohibited shark. All sharks not retained must be released in a manner that will ensure maximum probability of survival, but without removing the fish from the water.

Due to the implementation of the 1999 prohibited species provisions and, based on catch rate data from the second semiannual fishing seasons from 1997, 1998, and 1999 for LCS species, NMFS has determined that the available LCS quota of 542.5 mt dw will be attained within 46 days. Accordingly, the second semiannual season for LCS in or from the Western North Atlantic Ocean, including the Gulf of Mexico and Caribbean Sea, will close on August 15, 2000, at 11:30 p.m. local time. This closure date is 8 days later than the previously announced closure date of August 7, 2000 (June 6, 2000, 65 FR 35855). NMFS estimates that the available LCS quota will not be harvested as quickly when the prohibited species provisions are implemented because the available quota is unchanged but fewer species can be harvested against that quota.

During a closure, retention of, fishing for, possessing or selling LCS are prohibited for persons fishing aboard vessels issued a directed or incidental limited access permit under 50 CFR 635.4. After 11:30 p.m. local time August 15, 2000, the sale, purchase, trade, or barter of carcasses and/or fins of LCS harvested by a person aboard a vessel that has been issued a permit under 50 CFR 635.4 are prohibited, except for those that were harvested, offloaded, and sold, traded, or bartered prior to the closure and were held in storage by a dealer or processor.

Commercial fishing for pelagic and small coastal sharks may continue until further notice. When quotas are projected to be reached, NMFS will file notification of closure at the Office of the Federal Register. Those vessels that have not been issued a limited access permit under 50 CFR 635.4 may not sell sharks and are subject to the recreational retention limits and size limits specified at 50 CFR 635.20(d) and 635.22(c). The recreational fishery is not affected by this action.

Classification

This action is taken under 50 CFR part 635 and is exempt from review under Executive Order 12866.

Authority: 16 U.S.C. 1801 et seq.

Dated: June 15, 2000.
Bruce C. Morehead,
Acting Director, Office of Sustainable Fisheries, National Marine Fisheries Service.

[FR Doc. 00-15663 Filed 6-20-00; 8:45 am]

BILLING CODE 3510-22-F